DEPARTMENT OF TRANSPORTATION

Federal Aviation Administration

14 CFR Part 95

[Docket No.30850; Amdt. No. 501]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective date 0901 UTC, July 26, 2012.

FOR FURTHER INFORMATION CONTACT: Rick Dunham, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points or those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on June 22, 2012.
John M. Allen,
Deputy Director, Flight Standards Service.

Adoption of the Amendment

Accordingly, pursuant to the authority delegated to me by the Administrator, part 95 of the Federal Aviation Regulations (14 CFR part 95) is amended as follows effective at 0901 UTC, July 26, 2012.

1. The authority citation for part 95 continues to read as follows:

Authority: 49 U.S.C. 106(g), 40103, 40106, 40113, 40114, 40120, 44502, 44514, 44719, 44721.

2. Part 95 is amended to read as follows:

PART 95—[AMENDED]

Revisions to IFR Altitudes & Changeover Points
[Amendment 501 effective date July 26, 2012]
From | To | MEA | MAA
§ 95.3000 Low Altitude RNAV Routes
§ 95.3306 RNAV Route T306 is Added to Read
LOS ANGELES, CA VORTAC | PRADO, CA FIX | 4000 | 17500
PRADO, CA FIX | PARADISE, CA VORTAC | 5000 | 17500
PARADISE, CA VORTAC | * SETER, CA FIX | 5500 | 17500
* 12100—MCA SETER, CA FIX, E BND
SETER, CA FIX | BANDS, CA FIX | 9000 | 17500
BANDS, CA FIX | * PALM SPRINGS, CA VORTAC | 13000 | 17500
* 11800—MCA PALM SPRINGS, CA VORTAC, W BND
PALM SPRINGS, CA VORTAC | BLYTHE, CA VORTAC | 8000 | 17500
BLYTHE, CA VORTAC | BUCKEYE, AZ VORTAC | 6000 | 17500
BUCKEYE, AZ VORTAC | PERKY, AZ FIX | 5000 | 17500
PERKY, AZ FIX | PHOENIX, AZ VORTAC | 4000 | 17500
PHOENIX, AZ VORTAC | * TOTEC, AZ FIX | 5000 | 17500
* 5500—MCA TOTEC, AZ FIX, E BND
TOTEC, AZ FIX | TUCSON, AZ VORTAC | 6500 | 17500
TUCSON, AZ VORTAC | NOCHI, AZ FIX | 10700 | 17500
NOCHI, AZ FIX | ANIMA, NM FIX | 10700 | 17500
ANIMA, NM FIX | DARCE, NM FIX | 9000 | 17500
DARCE, NM FIX | COLUMBUS, NM VOR/DME | * 9000 | 17500
* 8200—MOCA
COLUMBUS, NM VOR/DME | EL PASO, TX VORTAC | 9000 | 17500
§ 95.3310 RNAV Route T310 is Added to Read
TUCSON, AZ VORTAC | * SULLI, AZ FIX | 8000 | 17500
* 9200—MCA SULLI, AZ FIX, E BND
SULLI, AZ FIX | MESCA, AZ FIX | 10000 | 17500
MESCA, AZ FIX | NOCHI, AZ FIX | 10000 | 17500
NOCHI, AZ FIX | SAN SIMON, AZ VORTAC | 10000 | 17500
SAN SIMON, AZ VORTAC | SILVER CITY, NM VORTAC | 10300 | 17500
SILVER CITY, NM VORTAC | KEAPS, NM FIX | 10300 | 17500
* 11600—MCA KEAPS, NM FIX, NE BND
KEAPS, NM FIX | TRUTH OR CONSEQUENCES, NM VORTAC | 12300 | 17500
§ 95.4000 High Altitude RNAV Routes
§ 95.4130 RNAV Route Q130 is Amended to Read in Part
REANA, NV FIX | ROCCY, UT FIX | * 28000 | 45000
* 18000—GNSS MEA
* DME/DME/IRU MEA
ROCCY, UT FIX | RATTLESNAKE, NM VORTAC | * 22000 | 45000
* 18000—GNSS MEA
* DME/DME/IRU MEA
§ 95.4148 RNAV Route Q148 is Amended to Read in Part
STEVS, WA FIX | ZAXUL, WA FIX | * 18000 | 45000
* GNSS MEA
* DME/DME/IRU MEA
ZAXUL, WA FIX | FINUT, WA FIX | * 24000 | 45000
* 18000—GNSS MEA
* DME/DME/IRU MEA
§ 95.4150 RNAV Route Q150 is Amended to Read in Part
STEVS, WA FIX | ZAXUL, WA FIX | * 18000 | 45000
* GNSS MEA
* DME/DME/IRU MEA

From | To | MEA
§ 95.6001 Victor Routes—U.S.
§ 95.6016 VOR Federal Airway V16 is Amended to Delete
TUCSON, AZ VORTAC | COCHISE, AZ VORTAC | 10500
COCHISE, AZ VORTAC | ANIMA, NM FIX | 11000
As Amended to Read in Part
PRADO, CA FIX | PARADISE, CA VORTAC | 5000
SETER, CA FIX | BANDS, CA FIX
| E BND | 13000
| W BND | 9000
BANDS, CA FIX | * PALM SPRINGS, CA VORTAC | 13000
* 11800—MCA PALM SPRINGS, CA VORTAC, W BND
PALM SPRINGS, CA VORTAC | BLYTHE, CA VORTAC | 8000
BLYTHE, CA VORTAC | BUCKEYE, AZ VORTAC | 6000
PERKY, AZ FIX | PHOENIX, AZ VORTAC | 4000
TOTEC, AZ FIX | TUCSON, AZ VORTAC | 6500
TUCSON, AZ VORTAC | SAN SIMON, AZ VORTAC | 11500
SAN SIMON, AZ VORTAC | ANIMA, NM FIX | 8000
ANIMA, NM FIX | DARCE, NM FIX | 9000
§ 95.6063 VOR Federal Airway V63 is Amended to Read in Part
PLADD, MO FIX | BARTI, MO FIX | * 6000
* 2600—MOCA
BARTI, MO FIX | HALLSVILLE, MO VORTAC | 3100
§ 95.6066 VOR Federal Airway V66 is Amended to Read in Part
TUCSON, AZ VORTAC | * SULLI, AZ FIX | * * 8000
* 9200—MCA SULLI, AZ FIX, E BND
** 7200—MOCA
SULLI, AZ FIX | DOUGLAS, AZ VORTAC | 10000
§ 95.6070 VOR Federal Airway V70 is Amended to Read in Part
BROWNSVILLE, TX VORTAC | RAYMO, TX FIX
| N BND | * 3800
| S BND | * 1600
* 1600—GNSS MEA
RAYMO, TX FIX | JIMIE, TX FIX
| N BND | * 6000
| S BND | * 4000
* 1600—MOCA
* 2000—GNSS MEA
JIMIE, TX FIX | JETTY, TX FIX | * 6000
* 1800—MOCA
* 2000—GNSS MEA
JETTY, TX FIX | CORPUS CHRISTI, TX VORTAC
| N BND | * 2100
| S BND | * 3800
* 2100—GNSS MEA
§ 95.6088 VOR Federal Airway V88 is Amended to Read in Part
TULSA, OK VORTAC | VINTA, OK FIX | 2700
NARCI, OK FIX | WACCO, MO FIX | * 6200
* 3100—MOCA
* 4000—GNSS MEA
WACCO, MO FIX | SPRINGFFIELD, MO VORTAC | 3000
§ 95.6094 VOR Federal Airway V94 is Amended to Read in Part
BLYTHE, CA VORTAC | VICKO, AZ FIX | 6000
§ 95.6140 VOR Federal Airway V140 is Amended to Read in Part
SAYRE, OK VORTAC | ODINS, OK FIX | 4000
ODINS, OK FIX | KINGFISHER, OK VORTAC | 3500
§ 95.6172 VOR Federal Airway V172 is Amended to Read in Part
OMAHA, IA VORTAC | WUNOT, IA FIX
| NE BND | 5500
| SW BND | 4000
§ 95.6187 VOR Federal Airway V187 is Amended to Read in Part
NEZ PERCE, ID VOR/DME | POTOR, WA FIX | * 6000
* 5300—MOCA
POTOR, WA FIX | * DATES, WA FIX | 7200
* 4200—MCA DATES, WA FIX, E BND
§ 95.6202 VOR Federal Airway V202 is Amended to Delete
TUCSON, AZ VORTAC | SULLI, AZ FIX | 8000
SULLI, AZ FIX | MESCA, AZ FIX
| E BND | 9500
| W BND | 8000
MESCA, AZ FIX | COCHISE, AZ VORTAC | 9500
COCHISE, AZ VORTAC | SAN SIMON, AZ VORTAC | 10000
Is Amended to Read in Part
SAN SIMON, AZ VORTAC | SILVER CITY, NM VORTAC | 10300
SILVER CITY, NM VORTAC | * KEAPS, NM FIX | 10300
* 11600—MCA KEAPS, NM FIX, NE BND
KEAPS, NM FIX | TRUTH OR CONSEQUENCES, NM VORTAC | 12300
§ 95.6210 VOR Federal Airway V210 is Amended to Read in Part
LIBERAL, KS VORTAC | ROLLS, OK FIX | * 12000
* 4400—MOCA
* 5000—GNSS MEA
ROLLS, OK FIX | * WAXEY, OK FIX
| W BND | * 11000
| E BND | * 9300
* 3800—MOCA
* 4000—GNSS MEA
WAXEY, OK FIX | WILL ROGERS, OK VORTAC
| W BND | * 9300
| E BND | * 5000
* 3300—MOCA
* 4000—GNSS MEA
§ 95.6219 VOR Federal Airway V219 is Amended to Read in Part
SIOUX CITY, IA VORTAC | RITTA, IA FIX
| NE BND | * 9000
| SW BND | * 4500
* 3300—MOCA
MILSS, IA FIX | FAIRMONT, MN VOR/DME | 8000
§ 95.6289 VOR Federal Airway V289 is Amended to Read in Part
FORT SMITH, AR VORTAC | MULBY, AR FIX
| SW BND | 3300
| NE BND | 4000
§ 95.6290 VOR Federal Airway V290 is Amended to Read in Part
TAR RIVER, NC VORTAC | KENIR, NC FIX | * 4000
* 1600—MOCA
* 2000—GNSS MEA
KENIR, NC FIX | PUNGO, NC FIX | * 5000
* 1500—MOCA
* 2000—GNSS MEA
§ 95.6310 VOR Federal Airway V310 is Amended to Read in Part
TAR RIVER, NC VORTAC | ELIZABETH CITY, NC VOR/DME | * 4000
* 1600—MOCA
* 2000—GNSS MEA
§ 95.6361 VOR Federal Airway V361 is Amended to Read in Part
KREMMLING, CO VOR/DME | * ALLAN, CO FIX | * * 16000
* 16000—MRA
** 15400—MOCA
* MTA V361 SW TO V85 SE 14700
* MTA V361 SW TO V85 NW 16500
§ 95.6366 VOR Federal Airway V366 is Amended to Read in Part
HUGO, CO VOR/DME | FALCON, CO VORTAC | 8500
§ 95.6370 VOR Federal Airway V370 is Amended to Read in Part
PRADO, | CA FIX PARADISE, CA VORTAC | 5000
SETER, CA FIX | BANDS, CA FIX
| E BND | 13000
| W BND | 9000
BANDS, CA FIX | * PALM SPRINGS, CA VORTAC | 13000
* 11800—MCA PALM SPRINGS, CA VORTAC, W BND
* 6200—MCA PALM SPRINGS, CA VORTAC, NE BND
§ 95.6372 VOR Federal Airway V372 is Amended to Read in Part
HOMELAND, CA VOR | BANDS, CA FIX
| E BND | 13000
| W BND | 8000
BANDS, CA FIX | * PALM SPRINGS, CA VORTAC | 13000
* 11800—MCA PALM SPRINGS, CA VORTAC, W BND
PALM SPRINGS, CA VORTAC | BLYTHE, CA VORTAC | 8000
§ 95.6374 VOR Federal Airway V374 is Amended to Read in Part
MARTHAS VINEYARD, MA VOR/DME | MINNK, RI FIX | * 3000
* 1600—MOCA
MINNK, RI FIX | GROTON, CT VOR/DME | * 3000
* 1500—MOCA
§ 95.6405 VOR Federal Airway V405 is Amended to Read in Part
FALMA, RI FIX | MARTHAS VINEYARD, MA VOR/DME | * 3000
* 1600—MOCA
§ 95.6495 VOR Federal Airway V495 is Amended to Read in Part
JAWBN, WA FIX | LOFAL, WA FIX | * 5400
* 4300—MOCA
§ 95.6507 VOR Federal Airway V507 is Amended to Read in Part
WILL ROGERS, OK VORTAC | WAXEY, OK FIX
| N BND | 9300
| S BND | * 5000
* 3300—MOCA
* 4000—GNSS MEA
* WAXEY, OK FIX | ROLLS, OK FIX
| N BND | * 11000
| S BND | * 9300
* 3800—MOCA
* 4000—GNSS MEA
ROLLS, OK FIX | MITBEE, OK VORTAC
| N BND | * 4000
| S BND | * 9300
* 4000—GNSS MEA
§ 95.6438 Alaska VOR Federal Airway V438 is Amended to Read in Part
ANCHORAGE, AK VOR/DME | * BIG LAKE, AK VORTAC | 2000
* 2600—MCA BIG LAKE, AK VORTAC, N BND

From | To | MEA | MAA
§ 95.7001 Jet Routes
§ 95.7002 Jet Route J2 is Amended to Delete
GILA BEND, AZ VORTAC | COCHISE, AZ VORTAC | 18000 | 45000
COCHISE, AZ VORTAC | EL PASO, TX VORTAC | 18000 | 45000
Is Amended to Add in Part
GILA BEND, AZ VORTAC | TUCSON, AZ VORTAC | 18000 | 45000
TUCSON, AZ VORTAC | EL PASO, TX VORTAC | 18000 | 45000

Airway Segment: From | Airway Segment: To | Changeover Points: Distance | Changeover Points: From
§ 95.8003 VOR Federal Airway Changeover Points
V159 Is Amended to Delete Changeover Point
VERO BEACH, FL VORTAC | ORLANDO, FL VORTAC | 32 | VERO BEACH.
V495 Is Amended to Add Changeover Point
VICTORIA, VOR/DME | SEATTLE, WA VORTAC | 41 | VICTORIA.

[FR Doc. 2012-15909 Filed 6-27-12; 8:45 am]

BILLING CODE 4910-13-P